DEPARTMENT OF HEALTH AND HUMAN SERVICES

Food and Drug Administration

[Docket No. 2004N-0179]

Agency Information Collection Activities; Submission for Office of Management and Budget Review; Comment Request; New Animal Drug Application, Form FDA 356 V

ACTION: Notice.

SUMMARY: The Food and Drug Administration (FDA) is announcing that a proposed collection of information has been submitted to the Office of Management and Budget (OMB) for review and clearance under the Paperwork Reduction Act of 1995 (the PRA).

DATES: Fax written comments on the collection of information by December 3, 2004.

ADDRESSES: OMB is still experiencing significant delays in the regular mail, including first class and express mail, and messenger deliveries are not being accepted. To ensure that comments on the information collection are received, OMB recommends that written comments be faxed to the Office of Information and Regulatory Affairs, OMB, Attn: Fumie Yokota, Desk Officer for FDA, FAX: 202-395-6974.

FOR FURTHER INFORMATION CONTACT: Denver Presley, Office of Management Programs (HFA-250), Food and Drug Administration, 5600 Fishers Lane, Rockville, MD 20857, 301-827-1472.

SUPPLEMENTARY INFORMATION: In compliance with 44 U.S.C. 3507, FDA has submitted the following proposed collection of information to OMB for review and clearance.

New Animal Drug Application, Form 356 V—21 CFR Part 514 (OMB Control Number 0910-0032)—Extension

FDA has the responsibility under the Federal Food, Drug and Cosmetic Act (the act), for the approval of new animal drugs that are safe and effective. Section 512(b) of the act (21 U.S.C. 360b(b)) requires that a sponsor submit and receive approval of a new animal drug application (NADA) before interstate marketing is allowed. The regulations implementing statutory requirements for NADA approval have been codified under 21 CFR part 514. NADA applicants generally use a single form, FDA 356 V. The NADA must contain, among other things, safety and effectiveness data for the drug, labeling, a list of components, manufacturing and controls information, and complete information on any methods used to determine residues of drug chemicals in edible tissues. While the NADA is pending, an amended application may be submitted for proposed changes. After an NADA has been approved, a supplemental application must be submitted for certain proposed changes, including changes beyond the variations provided for in the NADA and other labeling changes. An amended application and a supplemental application may omit statements concerning which no change is proposed. This information is reviewed by FDA scientific personnel to ensure that the intended use of an animal drug, whether as a pharmaceutical dosage form, in drinking water, or in medicated feed, is safe and effective. The respondents are pharmaceutical firms that produce veterinary products and commercial feed mills.

In the Federal Register of May 19, 2004 (69 FR 28930), FDA published a 60-day notice soliciting comments on the collection of information requirements. In response to that notice, no comments were received.

FDA estimates the burden of this collection of information as follows:

Table 1.—Estimated Annual Reporting Burden¹
21 CFR Section | No. of Respondents | Annual Frequency per Response | Total Annual Responses | Hours per Response | Total Hours
514.1 and 514.6 | 190 | 7.39 | 1,405 | 211.6 | 297,298
514.8 | 190 | 7.39 | 1,405 | 30 | 42,150
514.11 | 190 | 7.39 | 1,405 | 1 | 1,405
558.5(i) | 1 | 1 | 1.0 | 5 | 5
Total | 340,858
¹ There are no capitol costs or operating and maintenance costs associated with this collection of information.

The estimate of the burden hours required for reporting are based on FY 2003 data. The burden estimate includes original NADAs, supplemental NADAs and amendments to unapproved applications.

The burden estimate for obtaining a waiver (filing a petition) from labeling requirements for certain drugs intended for use in animal feed or drinking water was derived from data by FDA's Division of Animal Feeds in the Center for Veterinary Medicine.

Dated: October 27, 2004.
Jeffrey Shuren,
Assistant Commissioner for Policy.

[FR Doc. 04-24446 Filed 11-2-04; 8:45 am]

BILLING CODE 4160-01-S